DEPARTMENT OF COMMERCE

International Trade Administration

[A-357-820, A-560-830]

Biodiesel From Argentina and Indonesia: Postponement of Final Determinations of Sales in Less Than Fair Value Investigations and Extension of Provisional Measures

AGENCY: Enforcement and Compliance, International Trade Administration, Department of Commerce.

SUMMARY: The Department of Commerce (the Department) is postponing the deadline for issuing the final determinations in the less-than-fair-value (LTFV) investigations of biodiesel from Argentina and Indonesia until February 15, 2018, and is extending the provisional measures from a four-month period to a period of not more than six months.

DATES: Applicable December 8, 2017.

FOR FURTHER INFORMATION CONTACT: David Lindgren at (202) 482-3870 (Argentina); Myrna Lobo at (202) 482-2371 (Indonesia), Enforcement and Compliance, International Trade Administration, U.S. Department of Commerce, 1401 Constitution Avenue NW., Washington, DC 20230.

SUPPLEMENTARY INFORMATION:

Background

On April 12, 2017, the Department initiated LTFV investigations of imports of biodiesel from Argentina and Indonesia.¹ The period of investigation for each investigation is January 1, 2016, through December 31, 2016. On October 31, 2017, the Department published its Preliminary Determination in each of these LTFV investigations.²

¹ See Biodiesel from Argentina and Indonesia: Initiation of Less-Than-Fair-Value Investigations, 82 FR 18428 (April 19, 2017).

² See Biodiesel from Agentina: Preliminary Affirmative Determination of Sales at Less Than Fair Value, Preliminary Determination of Critical Circumstances, In Part, 82 FR 50391 (October 31, 2017) (Argentina Preliminary Determination); see also Biodiesel from Indonesia: Preliminary Affirmative Determination of Sales at Less Than Fair Value, 82 FR 50379 (Indonesia Preliminary Determination).

Postponement of Final Determinations

Section 735(a)(2) of the Tariff Act of 1930, as amended (the Act), and 19 CFR 351.210(b)(2) provide that a final determination may be postponed until not later than 135 days after the date of the publication of the preliminary determination if, in the event of an affirmative preliminary determination, a request for such postponement is made by the exporters or producers who account for a significant proportion of exports of the subject merchandise, or in the event of a negative preliminary determination, a request for such postponement is made by the petitioners. Further, 19 CFR 351.210(e)(2) requires that such postponement requests by exporters be accompanied by a request for extension of provisional meausres from a four-month period to a period of not more than six months, in accordance with section 733(d) of the Act.

In September 2017, P.T. Musim Mas (Musim Mas) and Wilmar Trading PTE Ltd. (Wilmar), the mandatory respondents in the Indonesia investigation, requested that the Department postpone the deadline for the final determination until no later than 135 days from the publication of the Indonesia Preliminary Determination, and extend the application of the provisional measures from a four-month period to a period of not more than six months.³ In November 2017, Camara Argentina de Biocombustibles (CARBIO) and LDC Argentina S.A. (LDC), the mandatory respondents in the Argentina investigation, requested that the Department postpone the deadline for the final determination until no later than 135 days from the publication of the Argentina Preliminary Determination, and extend the application of the provisional measures from a four-month period to a period of not more than six months.⁴

³ See Musim Mas' Letter, “Biodiesel from Indonesia: Request to Extend Final Determination,” dated September 19, 2017; see also Wilmar's Letter, “Biodiesel from Indonesia: Request for Extension of Final Determination,” dated September 19, 2017.

⁴ See CARBIO's Letter, “CARBIO's Request for Postponement of the Final Determination Biodiesel from Argentina (A-357-820),” dated November 10, 2017; see also LDC's Letter, “Biodiesel from Argentina: Request for Postponement of the Final Determination,” dated November 16, 2017.

In accordance with section 735(a)(2)(A) of the Act and 19 CFR 351.210(b)(2)(ii), because (1) each preliminary determination was affirmative; (2) the requests in each investigation were made by the exporters and producers who account for a significant proportion of exports of the subject merchandise from the country at issue; and (3) no compelling reasons for denials exist, the Department is postponing the final determination in each investigation until no later than 107 days after the date of the publication of the relevant preliminary determination, and extending the provisional measures from a four-month period to a period of not more than six months. Accordingly, the Department will issue its final determination in each investigation no later than February 15, 2018.

This notice is issued and published pursuant to 19 CFR 351.210(g).

Dated: December 4, 2017.
Gary Taverman,
Deputy Assistant Secretary for Antidumping and Countervailing Duty Operations, performing the non-exclusive functions and duties of the Assistant Secretary for Enforcement and Compliance.

[FR Doc. 2017-26489 Filed 12-7-17; 8:45 am]

BILLING CODE 3510-DS-P